DEPARTMENT OF THE TREASURY

Internal Revenue Service

26 CFR Part 301

[REG-108553-00]

RIN 1545-AY09

Classification of Certain Pension and Employee Benefit Trusts, and Other Trusts; Hearing Cancellation

AGENCY: Internal Revenue Service (IRS), Treasury.

ACTION: Cancellation of notice of public hearing on proposed rulemaking.

SUMMARY: This document provides notice of cancellation of a public hearing on proposed regulations relating to pension and employment benefit trusts, and other trusts.

DATES: The public hearing originally scheduled for Wednesday, January 31, 2001, at 10 a.m. is canceled.

FOR FURTHER INFORMATION CONTACT: Guy R. Traynor of the Regulations Unit, Office of Special Counsel, at (202) 622-7180 (not a toll-free number).

SUPPLEMENTARY INFORMATION: A notice of proposed rulemaking and notice of public hearing that appeared in the Federal Register on Thursday, October 12, 2000 (65 FR 60822), announced that a public hearing was schedule for January 31, 2001, at 10 a.m., in the auditorium of the Internal Revenue Building, 1111 Constitution Avenue NW., Washington, DC. The subject of the public hearing is proposed regulations under section 7701 of the Internal Revenue Code. The deadline for requests to speak and outlines of oral comments expired on January 10, 2001.

The notice of proposed rulemaking and notice of public hearing, instructed those interested in testifying at the public hearing to submit a request to speak and an outline of the topics to be addressed. As of January 16, 2001, no one has requested to speak. Therefore, the public hearing scheduled for January 31, 2001, is canceled.

Cynthia E. Grigsby,
Chief, Regulations Unit, Office of Special Counsel (Modernization and Strategic Planning).

[FR Doc. 01-1991 Filed 1-25-01; 8:45 am]

BILLING CODE 4830-01-P